DEPARTMENT OF THE TREASURY

Office of Foreign Assets Control

Designation of Eighteen Individuals Pursuant to the Sergei Magnitsky Rule of Law Accountability Act of 2012

AGENCY: Office of Foreign Assets Control, Treasury.

ACTION: Notice.

SUMMARY: The Treasury Department's Office of Foreign Assets Control (“OFAC”) is publishing the names of eighteen individuals whose property and interests in property are blocked pursuant to the Sergei Magnitsky Rule of Law Accountability Act of 2012 (Pub. L. 112-208, December 14, 2012) (the “Magnitsky Act”).

DATES: The designations by the Director of OFAC, pursuant to the Magnitsky Act, of the eighteen individuals identified in this notice were effective on April 12, 2013.

FOR FURTHER INFORMATION CONTACT: Assistant Director, Sanctions Compliance and Evaluation, Office of Foreign Assets Control, Department of the Treasury, Washington, DC 20220, tel.: 202/622-2490.

SUPPLEMENTARY INFORMATION:

Electronic and Facsimile Availability

This document and additional information concerning OFAC are available from OFAC's Web site (www.treas.gov/ofac). Certain general information pertaining to OFAC's sanctions programs is available via facsimile through a 24-hour fax-on-demand service, tel.: 202/622-0077.

Background

On December 14, 2012, the President signed the Magnitsky Act. The Magnitsky Act requires the President to submit to certain congressional committees a list of each person the President has determined meet certain criteria set forth in the Magnitsky Act.

Pursuant to Section 406 of the Magnitsky Act, the President is required to block, with certain exceptions, all property and interests in property of a person who is on the list required by section 404(a) of the Magnitsky Act that are in the United States, that come within the United States, or that are or come within the possession or control of any United States person, of persons listed on the list submitted to those congressional committees. The President delegated certain functions under the Magnitsky Act to the Secretary of the Treasury, in consultation with the Secretary of State, on April 5, 2013.

On April 12, 2013, the Director of OFAC designated, pursuant to Section 406 of the Magnitsky Act, eighteen individuals as persons whose property and interests in property are blocked pursuant to the Magnitsky Act.

The listings for these persons on OFAC's List of Specially Designated Nationals and Blocked Persons appear as follows:

Individuals:

1. KRIVORUCHKO, Aleksey (a.k.a. KRIVORUCHKO, Alex; a.k.a. KRIVORUCHKO, Alexei); DOB 25 Aug 1977; POB Moscow Region, Russia (individual) [MAGNIT].

2. KUZNETSOV, Artem (a.k.a. KUZNETSOV, Artyom); DOB 28 Feb 1975; POB Baku, Azerbaijan (individual) [MAGNIT].

3. SILCHENKO, Oleg F.; DOB 25 Jun 1977; POB Samarkand, Uzbekistan (individual) [MAGNIT].

4. STEPANOVA, Olga G.; DOB 29 Jul 1962; POB Moscow, Russia (individual) [MAGNIT].

5. DROGANOV, Aleksey O.; DOB 11 Oct 1975; POB Lesnoi Settlement, Pushkin Area, Moscow Region, Russia (individual) [MAGNIT].

6. KARPOV, Pavel; DOB 27 Aug 1977; POB Moscow, Russia (individual) [MAGNIT].

7. KHIMINA, Yelena; DOB 11 Sep 1953; POB Moscow, Russia (individual) [MAGNIT].

8. KOMNOV, Dmitriy; DOB 17 May 1977; POB Kashira Region, Moscow, Russia (individual) [MAGNIT].

9. LOGUNOV, Oleg; DOB 04 Feb 1962; POB Irkutsk Region, Russia (individual) [MAGNIT].

10. PECHEGIN, Andrey I.; DOB 24 Sep 1965; POB Moscow Region, Russia (individual) [MAGNIT].

11. PODOPRIGOROV, Sergei G.; DOB 08 Jan 1974; POB Moscow, Russia (individual) [MAGNIT].

12. PROKOPENKO, Ivan Pavlovitch; DOB 28 Sep 1973; POB Vinnitsa, Ukraine (individual) [MAGNIT].

13. STASHINA, Yelena (a.k.a. STASHINA, Elena; a.k.a. STASHINA, Helen); DOB 05 Nov 1963; POB Tomsk, Russia (individual) [MAGNIT].

14. TOLCHINSKIY, Dmitri M. (a.k.a. TOLCHINSKY, Dmitry); DOB 11 May 1982; POB Moscow, Russia (individual) [MAGNIT].

15. UKHNALYOVA, Svetlana (a.k.a. UKHNALEV, Svetlana; a.k.a. UKHNALEVA, Svetlana V.); DOB 14 Mar 1973; POB Moscow, Russia (individual) [MAGNIT].

16. VINOGRADOVA, Natalya V.; DOB 16 Jun 1973; POB Michurinsk, Russia (individual) [MAGNIT].

17. BOGATIROV, Letscha (a.k.a. BOGATYREV, Lecha; a.k.a. BOGATYRYOV, Lecha); DOB 14 Mar 1975; POB Atschkoi, Chechen Republic, Russia (individual) [MAGNIT].

18. DUKUZOV, Kazbek; DOB 1974; POB Urus-Martan District, Chechen Republic, Russia (individual) [MAGNIT].

Dated: April 12, 2013.
Adam J. Szubin,
Director, Office of Foreign Assets Control.

[FR Doc. 2013-09369 Filed 4-19-13; 8:45 am]

BILLING CODE 4810-AL-P